DEPARTMENT OF LABOR

Employment and Training Administration

[TA-W-82,253]

Cardinal Health, Financial Shared Services West and Customer Care Pricing and Contracts, Including On-Site Leased Workers From Aerotek, Excel Staffing, Experis Finance (Manpower), Ricoh, USA, Dawson Creative, Mergis Group and Tailored Management Albuquerque, New Mexico; Amended Certification Regarding Eligibility To Apply for Worker Adjustment Assistance

In accordance with Section 223 of the Trade Act of 1974, as amended (“Act”), 19 U.S.C. 2273, the Department of Labor issued a Certification of Eligibility to Apply for Worker Adjustment Assistance on December 21, 2012, applicable to workers of Cardinal Health, Financial Shared Services West, including on-site leased workers from Aerotek, eXcel Staffing, and Experis Finance (Manpower), Albuquerque, New Mexico. The workers are engaged in activities related to back office financial services. The Department's Notice was published in the Federal Register on January 10, 2013 (78 FR 2289). The certification was amended on February 8, 2013 to include on-site leased from Ricoh, USA, Dawson Creative, Mergis Group, and Tailored Management were employed on-site at the Albuquerque, New Mexico location of the subject firm. The Department's Notice was published in the Federal Register on February 22, 2013 (78 FR 12358).

The Department reviewed the certification applicable to the workers and former workers of the subject firm. New information shows that worker separations in Customer Care Pricing and Contracts (C&P), at the Albuquerque, New Mexico location are attributable to the acquisition of services from a foreign country that was the basis for the original certification. Based on these findings, the Department is amending this certification to include workers of Customer Care Pricing and Contracts (C&P) at the Albuquerque, New Mexico location of the subject firm.

The amended notice applicable to TA-W-82,253 is hereby issued as follows:

All workers from Cardinal Health, Financial Shared Services West and Customer Care Pricing and Contracts, including Aerotek, eXcel Staffing, Experis Finance (Manpower), Ricoh, USA, Dawson Creative, Mergis Group, and Tailored Management, Albuquerque, New Mexico, who became totally or partially separated from employment on or after December 13, 2011 through December 21, 2014, and all workers in the group threatened with total or partial separation from employment on the date of certification through December 21, 2014, are eligible to apply for adjustment assistance under Chapter 2 of Title II of the Trade Act of 1974, as amended.

Signed at Washington, DC, this 1st day of December 2014.
Michael W. Jaffe,
Certifying Officer, Office of Trade Adjustment Assistance.

[FR Doc. 2014-29683 Filed 12-18-14; 8:45 am]

BILLING CODE 4510-FN-P